SUSQUEHANNA RIVER BASIN COMMISSION

Notice of Action by the Commission Approving Certain Projects

AGENCY: Susquehanna River Basin Commission (SRBC).

SUMMARY: Pursuant to its authority under the Susquehanna River Basin Compact, Pub. L. 91-575, 84 Stat. 1509 et seq. (the “Compact”) and its Regulations for Review of Projects, 18 CFR parts 803, 804 and 805, the SRBC, following a public hearing, approved certain water resources projects listed below at its meeting held in Aberdeen, Maryland on September 13, 2006.

Opportunity For Review: In accordance with Section 3.10(6) of the Compact and Paragraph (o) of the Federal Reservations to the Compact, all such actions of the SRBC are reviewable in federal district court provided that an action for such review is commenced within 90 days from the effective date of the determination sought to be reviewed. For purposes of judicial review, the effective date for actions identified in this notice shall be the date of publication of this notice.

FOR FURTHER INFORMATION CONTACT: Richard A. Cairo, General Counsel, 717-238-0423, Ext. 306; Fax: 717-238-2436; e-mail: rcairo@src.net or Michael G. Brownell, Chief, Water Resources Management, 717-238-0425, Ext. 223; Fax: 717-238-2436; e-mail mbrownell@srbc.net. Further details on the docket actions taken on the projects listed below are also available on SRBC's Web site at http://www.srbc.net.

SUPPLEMENTARY INFORMATION:

List of Approved Projects

1. Mansfield Borough Municipal Authority—Groundwater withdrawal (30-day average) of 0.252 mgd from Well 2, and a total groundwater system withdrawal limit (30-day average) of 0.255 mgd, for public water supply, Richmond Township, Tioga County, Pennsylvania.

2. Tunkhannock Borough Municipal Authority—Groundwater withdrawal (30-day average) of 0.144 mgd from Well 3R, and a total system withdrawal limit (30-day average) of 0.300 mgd for public water supply, Tunkhannock Borough, Wyoming County, Pennsylvania.

3. EP FCL, LLC dba Ron Jaworski's Edgewood in the Pines—Consumptive water use of up to 0.360 mgd, for golf course irrigation, Butler Township, Luzerne County, Pennsylvania.

4. Bedford Township Municipal Authority Schaffer Tract—Groundwater withdrawals (30-day averages) of 0.288 mgd from Schaffer Tract Well 1 and 0.288 mgd from Schaffer Tract Well 2, Bedford Township, Bedford County, Pennsylvania.

5. Bedford Township Municipal Authority Hotel Well—Groundwater withdrawal (30-day average) of 0.367 mgd from the Bedford Springs Hotel Well 1, Bedford Township, Bedford County, Pennsylvania.

6. Monroe Valley Golf Course—Surface water withdrawal of up to 0.221 mgd from East Pond, when available; surface water withdrawal of up to 0.221 mgd from West Pond, when available; and a total combined surface water withdrawal of up to 0.532 mgd, when available, from East Pond, West Pond, and Monroe Creek; and consumptive water use of up to 0.532 mgd, for golf course irrigation, Swatara Township, Lebanon County, Pennsylvania.

7. Dairy Farmers of America, Inc.—Consumptive water use of up to 0.500 mgd, for manufacture of beverages, Lower Allen Township, Cumberland County, Pennsylvania.

8. Manheim Borough Authority—Groundwater withdrawal (30-day average) of 0.936 mgd from Well 6, and a total system withdrawal limit (30-day average) of 0.936 mgd for public water supply, Manheim Borough, Lancaster County, Pennsylvania.

Dated: September 27, 2006.
Paul O. Swartz,
Executive Director.

[FR Doc. E6-16611 Filed 10-5-06; 8:45 am]

BILLING CODE 7040-01-P